DEPARTMENT OF TRANSPORTATION

Research and Special Programs Administration

International Standards on the Transport of Dangerous Goods; Public Meetings

AGENCY: Research and Special Programs Administration (RSPA), Department of Transportation.

ACTION: Notice of public meetings.

SUMMARY: This notice is to advise interested persons that RSPA will conduct public meetings in preparation for and to report the results of the twenty-first session of the United Nation's Committee of Experts on the Transport of Dangerous Goods (UN COE) to be held December 4-13, 2000 in Geneva, Switzerland.

DATES: November 28, 2000 9:30 AM-1:00 PM, Room 2201; January 11, 2001, 10:00 AM-1:00 PM, Room 8236-8240.

ADDRESS: Both meetings will be held at DOT Headquarters, Nassif Building, 400 Seventh Street SW., Washington, DC 20590.

FOR FURTHER INFORMATION CONTACT: Frits Wybenga, International Standards Coordinator, Office of Hazardous Materials Safety, or Bob Richard, Assistant International Standards Coordinator, Office of Hazardous Materials Safety, Department of Transportation, Washington, DC 20590; (202) 366-0656.

SUPPLEMENTARY INFORMATION: The primary purpose of the first meeting will be to prepare for the twenty-first session of the UN COE and to discuss U.S. positions on UN COE proposals. The primary purpose of the second meeting will be to provide a briefing on the outcome of the UN COE session and to prepare for the Committee's 2001-2002 biennium which commences with the nineteenth session of the United Nations Sub-Committee of Experts on the Transport of Dangerous Goods (UN COE) which is scheduled for July 2-13, 2001 in Geneva, Switzerland. Topics to be covered during the public meetings include: (1) Global harmonization of classification criteria including flammable aerosol test methods and criteria; (2) Reformatting the UN Recommendations into a model rule, (3) Intermodal portable tank requirements including requirements for the transport of solids in portable tanks, (4) Requirements applicable to small quantities of hazardous materials in transport (limited quantities) including package marking requirements, package quantity limits and requirements applicable to consumer commodities, (5) Harmonized requirements for compressed gas cylinders, (6) Classification of individual substances, (7) Requirements for bulk and non-bulk packagings used to transport hazardous materials, (8) Requirements for the transport of Ammonium Nitrate Emulsions and (9) Hazard communication requirements including harmonized shipping paper requirements.

The public is invited to attend without prior notification.

Documents

Copies of documents for the UNCOE meeting may be obtained by downloading them from the United Nations Transport Division's web site at http://www.unece.org/trans/main/dgdb/dgcomm/dgcomm.html. Information concerning UN dangerous goods meetings including agendas can be downloaded at http://www.unece.org/trans/danger/meetings.htm#ST/SG. These sites may also be accessed through RSPA's Hazardous Materials Safety Homepage at http://hazmat.dot.gov/intstandards.htm. RSPA's site also provides information regarding the UNCOE and SCOE and related matters such as a summary of decisions taken at the 18th session of the UNSCOE, meeting dates and a summary of the primary topics which the UNCOE plans to address.

Issued in Washington, DC, on November 14, 2000.
Robert A. McGuire,
Associate Administrator for Hazardous Materials Safety.

[FR Doc. 00-29573 Filed 11-17-00; 8:45 am]

BILLING CODE 4910-60-M